FEDERAL COMMUNICATIONS COMMISSION

47 CFR Parts 0 and 97

[WT Docket No. 09-209; FCC 10-189]

Amateur Service Rules

AGENCY: Federal Communications Commission.

ACTION: Final rule.

SUMMARY: This document revises the Amateur Radio Service rules to amend and clarify the rules with respect to amateur service vanity call signs. The rules are necessary to amend the amateur service rules and to conform them to prior Commission decisions. The effect of this action is to enhance the usefulness of the amateur service rules by making them conform with other Commission rules, thereby eliminating licensee confusion when applying the rules to amateur service operations.

DATES: Effective February 14, 2011.

FOR FURTHER INFORMATION CONTACT: William T. Cross, Mobility Division, Wireless Telecommunications Bureau, at (202) 418-0680, or TTY (202) 418-7233.

SUPPLEMENTARY INFORMATION: This is a summary of the Commission's Report and Order (R&O), adopted November 2, 2010, and released November 8, 2010. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. By this action, the Commission amends the vanity call sign system rules to clarify the date on which the call sign associated with a license that is canceled due to the licensee's death becomes available for reassignment, and to clarify the exceptions to the general rule that a call sign is unavailable to the vanity call sign system for two years after the license terminates.

2. Also, by this action, the Commission limits who can file applications on behalf of a club, how many vanity call signs a club can hold, and how many clubs can have the same license trustee.

3. In addition, the Commission makes certain minor, non-substantive amendments to the amateur service rules to amend part 97 to remove obsolete references to Technician Plus Class operator licenses and to remove references to RACES station licenses.

4. The Commission also revises § 97.21 to reference § 1.949 of our rules, which requires that renewal applications be filed no sooner than ninety days prior to expiration of the license, and amends §§ 0.191 and 0.392 to remove references to § 97.401(b), which the Commission removed in 2006.

5. The rules that the Commission adopted in this R&O apply to amateur radio clubs, some of which may be small entities. The Commission certifies that no regulatory flexibility analysis is necessary here because, even if a substantial number of small entities, namely, amateur radio clubs, were affected by the rules, there would not be a significant economic impact on those entities. The rules we are adopting do not impose economic requirements. Instead, they relate to the administration of the amateur radio service. Therefore, we certify that the rule changes adopted in this R&O will not have a significant economic impact on a substantial number of small entities.

6. This R&O and the rule amendments are issued under the authority contained in 47 U.S.C. 154(i), 303(r), and 403.

7. The Commission's Consumer and Governmental Affairs Bureau, Reference Information Center, shall send a copy of this Report and Order, including the Initial and Final Regulatory Flexibility Certifications, to the Chief Counsel for Advocacy of the Small Business Administration.

List of Subjects

47 CFR Part 0

Organization and functions (Government agencies)

47 CFR Part 97

Radio.

Federal Communications Commission.
Marlene H. Dortch,
Secretary.

Rule Changes

For the reasons discussed in the preamble, the Federal Communications Commission amends 47 CFR parts 0 and 97 as follows:

PART 0—COMMISSION ORGANIZATION

1. The authority citation for part 0 continues to read as follows:

Authority: Secs. 5, 48 Stat. 1068, as amended; 47 U.S.C. 155.

§ 0.191 [Amended]

2. Remove and reserve paragraph (o) of § 0.191.

§ 0.392 [Amended]

3. Remove and reserve paragraph (g) of § 0.392.

PART 97—AMATEUR RADIO SERVICE

4. The authority citation for part 97 continues to read as follows:

Authority: 48 Stat. 1066, 1082, as amended; 47 U.S.C. 154, 303. Interpret or apply 48 Stat. 1064-1068, 1081-1105, as amended; 47 U.S.C. 151-155, 301-609, unless otherwise noted.

5. Section 97.3 is amended by redesignating paragraphs (a)(27) through (a)(49) as paragraphs (a)(28) through (a)(50), and adding a new paragraph (a)(27) to read as follows:

§ 97.3 Definitions.

* * * * *

(a) * * *

(27) In-law. A parent, stepparent, sibling, or step-sibling of a licensee's spouse; the spouse of a licensee's sibling, step-sibling, child, or stepchild; or the spouse of a licensee's spouse's sibling or step-sibling.

* * * * *

6. Section 97.5 is amended by removing paragraph (b)(4) and revising paragraph (b)(2) to read as follows:

§ 97.5 Station license required.

* * * * *

(b) * * *

(2) A club station license grant. A club station license grant may be held only by the person who is the license trustee designated by an officer of the club. The trustee must be a person who holds an operator/primary station license grant. The club must be composed of at least four persons and must have a name, a document of organization, management, and a primary purpose devoted to amateur service activities consistent with this part.

* * * * *

7. Section 97.9 is revised to read as follows:

§ 97.9 Operator license grant.

(a) The classes of amateur operator license grants are: Novice, Technician, General, Advanced, and Amateur Extra. The person named in the operator license grant is authorized to be the control operator of an amateur station with the privileges authorized to the operator class specified on the license grant.

(b) The person named in an operator license grant of Novice, Technician, General or Advanced Class, who has properly submitted to the administering VEs a FCC Form 605 document requesting examination for an operator license grant of a higher class, and who holds a CSCE indicating that the person has completed the necessary examinations within the previous 365 days, is authorized to exercise the rights and privileges of the higher operator class until final disposition of the application or until 365 days following the passing of the examination, whichever comes first.

8. Section 97.17 is amended by revising paragraphs (a) and (d) to read as follows:

§ 97.17 Application for new license grant.

(a) Any qualified person is eligible to apply for a new operator/primary station, club station or military recreation station license grant. No new license grant will be issued for a Novice or Advanced Class operator/primary station.

* * * * *

(d) One unique call sign will be shown on the license grant of each new primary, club and military recreation station. The call sign will be selected by the sequential call sign system. Effective February 14, 2011, no club station license grants will be issued to a licensee who is shown as the license trustee on an existing club station license grant.

9. Section 97.19 is amended by revising paragraphs (a), (c)(2), and (c)(3) to read as follows:

§ 97.19 Application for a vanity call sign.

(a) The person named in an operator/primary station license grant or in a club station license grant is eligible to make application for modification of the license grant, or the renewal thereof, to show a call sign selected by the vanity call sign system. Effective February 14, 2011, the person named in a club station license grant that shows on the license a call sign that was selected by a trustee is not eligible for an additional vanity call sign. (The person named in a club station license grant that shows on the license a call sign that was selected by a trustee is eligible for a vanity call sign for his or her operator/primary station license grant on the same basis as any other person who holds an operator/primary station license grant.) Military recreation stations are not eligible for a vanity call sign.

* * * * *

(c) * * *

(2) A call sign shown on a surrendered or canceled license grant (except for a license grant that is canceled pursuant to § 97.31) is not available to the vanity call sign system for 2 years following the date such action is taken. (The availability of a call sign shown on a license canceled pursuant to § 97.31 is governed by paragraph (c)(3) of this section.)

(i) This 2-year period does not apply to any license grant pursuant to paragraph (c)(3)(i), (ii), or (iii) of this section that is surrendered, canceled, revoked, voided, or set aside because the grantee acknowledged or the Commission determined that the grantee was not eligible for the exception. In such a case, the call sign is not available to the vanity call sign system for 30 days following the date such action is taken, or for the period for which the call sign would not have been available to the vanity call sign system pursuant to paragraphs (c)(2) or (3) of this section but for the intervening grant to the ineligible applicant, whichever is later.

(ii) An applicant to whose operator/primary station license grant, or club station license grant for which the applicant is the trustee, the call sign was previously assigned is exempt from the 2-year period set forth in paragraph (c)(2) of this section.

(3) A call sign shown on a license canceled pursuant to § 97.31 of this part is not available to the vanity call sign system for 2 years following the person's death, or for 2 years following the expiration of the license grant, whichever is sooner. If, however, a license is canceled more than 2 years after the licensee's death (or within 30 days before the second anniversary of the licensee's death), the call sign is not available to the vanity call sign system for 30 days following the date such action is taken. The following applicants are exempt from this 2-year period:

(i) An applicant to whose operator/primary station license grant, or club station license grant for which the applicant is the trustee, the call sign was previously assigned; or

(ii) An applicant who is the spouse, child, grandchild, stepchild, parent, grandparent, stepparent, brother, sister, stepbrother, stepsister, aunt, uncle, niece, nephew, or in-law of the person now deceased or of any other deceased former holder of the call sign, provided that the vanity call sign requested by the applicant is from the group of call signs corresponding to the same or lower class of operator license held by the applicant as designated in the sequential call sign system; or

(iii) An applicant who is a club station license trustee acting with a written statement of consent signed by either the licensee ante mortem but who is now deceased, or by at least one relative as listed in paragraph (c)(3)(ii) of this section, of the person now deceased or of any other deceased former holder of the call sign, provided that the deceased former holder was a member of the club during his or her life.

* * * * *

10. Section 97.21 is amended by revising paragraphs (a)(1), (a)(3) introductory text, (a)(3)(iii), and (c) to read as follows:

§ 97.21 Application for a modified or renewed license grant.

(a) * * *

(1) Must apply to the FCC for a modification of the license grant as necessary to show the correct mailing address, licensee name, club name, license trustee name, or license custodian name in accordance with § 1.913 of this chapter. For a club or military recreation station license grant, the application must be presented in document form to a Club Station Call Sign Administrator who must submit the information thereon to the FCC in an electronic batch file. The Club Station Call Sign Administrator must retain the collected information for at least 15 months and make it available to the FCC upon request. A Club Station Call Sign Administrator shall not file with the Commission any application to modify a club station license grant that was submitted by a person other than the trustee as shown on the license grant, except an application to change the club station license trustee. An application to modify a club station license grant to change the license trustee name must be submitted to a Club Station Call Sign Administrator and must be signed by an officer of the club.

* * * * *

(3) May apply to the FCC for renewal of the license grant for another term in accordance with §§ 1.913 and 1.949 of this chapter. Application for renewal of a Technician Plus Class operator/primary station license will be processed as an application for renewal of a Technician Class operator/primary station license.

* * * * *

(iii) For a club station or military recreation station license grant showing a call sign obtained through the sequential call sign system, and for a club station license grant showing a call sign obtained through the vanity call sign system but whose grantee does not want to have the vanity call sign reassigned to the station, the application must be presented in document form to a Club Station Call Sign Administrator who must submit the information thereon to the FCC in an electronic batch file. The replacement call sign will be selected by the sequential call sign system. The Club Station Call Sign Administrator must retain the collected information for at least 15 months and make it available to the FCC upon request.

* * * * *

(c) Except as provided in paragraph (a)(4) of this section, a call sign obtained under the sequential or vanity call sign system will be reassigned to the station upon renewal or modification of a station license.

11. Add § 97.31 to subpart A to read as follows:

§ 97.31 Cancellation on account of the licensee's death.

(a) A person may request cancellation of an operator/primary station license grant on account of the licensee's death by submitting a signed request that includes a death certificate, obituary, or Social Security Death Index data that shows the person named in the operator/primary station license grant has died. Such a request may be submitted as a pleading associated with the deceased licensee's license. See § 1.45 of this chapter. In addition, the Commission may cancel an operator/primary station license grant if it becomes aware of the grantee's death through other means. No action will be taken during the last thirty days of the post-expiration grace period (see § 97.21(b)) on a request to cancel a license due to the licensee's death.

(b) A license that is canceled due to the licensee's death is canceled as of the date of the licensee's death.

12. Section 97.119 is amended by revising paragraphs (f)(2) and (f)(3) to read as follows:

§ 97.119 Station identification.

* * * * *

(f) * * *

(2) For a control operator who has requested a license modification from Novice or Technician to General Class: AG;

(3) For a control operator who has requested a license modification from Novice, Technician, General, or Advanced Class to Amateur Extra Class: AE.

* * * * *

13. Section 97.201 is amended by revising paragraph (a) to read as follows:

§ 97.201 Auxiliary station.

(a) Any amateur station licensed to a holder of a Technician, General, Advanced or Amateur Extra Class operator license may be an auxiliary station. A holder of a Technician, General, Advanced or Amateur Extra Class operator license may be the control operator of an auxiliary station, subject to the privileges of the class of operator license held.

* * * * *

14. Section 97.203 is amended by revising paragraph (a) to read as follows:

§ 97.203 Beacon station.

(a) Any amateur station licensed to a holder of a Technician, General, Advanced or Amateur Extra Class operator license may be a beacon. A holder of a Technician, General, Advanced or Amateur Extra Class operator license may be the control operator of a beacon, subject to the privileges of the class of operator license held.

* * * * *

15. Section 97.301 is amended by revising paragraphs (a) introductory text and (e) introductory text to read as follows:

§ 97.301 Authorized frequency bands.

* * * * *

(a) For a station having a control operator who has been granted a Technician, General, Advanced, or Amateur Extra Class operator license or who holds a CEPT radio-amateur license or IARP of any class:

* * * * *

(e) For a station having a control operator who has been granted an operator license of Novice Class or Technician Class:

* * * * *

16. Section 97.313 is amended by revising paragraph (c)(2) to read as follows:

§ 97.313 Transmitter power standards.

* * * * *

(c) * * *

(2) On the 3.525-3.60 MHz, 7.025-7.125 MHz, 21.025-21.20 MHz, and 28.0-28.5 MHz segment when the control operator is a Novice Class operator or a Technician Class operator; or

* * * * *

17. Section 97.407 is revised to read as follows:

§ 97.407 Radio amateur civil emergency service.

(a) No station may transmit in RACES unless it is an FCC-licensed primary, club, or military recreation station and it is certified by a civil defense organization as registered with that organization. No person may be the control operator of an amateur station transmitting in RACES unless that person holds a FCC-issued amateur operator license and is certified by a civil defense organization as enrolled in that organization.

(b) The frequency bands and segments and emissions authorized to the control operator are available to stations transmitting communications in RACES on a shared basis with the amateur service. In the event of an emergency which necessitates invoking the President's War Emergency Powers under the provisions of section 706 of the Communications Act of 1934, as amended, 47 U.S.C. 606, amateur stations participating in RACES may only transmit on the frequency segments authorized pursuant to part 214 of this chapter.

(c) An amateur station registered with a civil defense organization may only communicate with the following stations upon authorization of the responsible civil defense official for the organization with which the amateur station is registered:

(1) An amateur station registered with the same or another civil defense organization; and

(2) A station in a service regulated by the FCC whenever such communication is authorized by the FCC.

(d) All communications transmitted in RACES must be specifically authorized by the civil defense organization for the area served. Only civil defense communications of the following types may be transmitted:

(1) Messages concerning impending or actual conditions jeopardizing the public safety, or affecting the national defense or security during periods of local, regional, or national civil emergencies;

(2) Messages directly concerning the immediate safety of life of individuals, the immediate protection of property, maintenance of law and order, alleviation of human suffering and need, and the combating of armed attack or sabotage;

(3) Messages directly concerning the accumulation and dissemination of public information or instructions to the civilian population essential to the activities of the civil defense organization or other authorized governmental or relief agencies; and

(4) Communications for RACES training drills and tests necessary to ensure the establishment and maintenance of orderly and efficient operation of the RACES as ordered by the responsible civil defense organization served. Such drills and tests may not exceed a total time of 1 hour per week. With the approval of the chief officer for emergency planning in the applicable State, Commonwealth, District or territory, however, such tests and drills may be conducted for a period not to exceed 72 hours no more than twice in any calendar year.

[FR Doc. 2010-31349 Filed 12-14-10; 8:45 am]

BILLING CODE 6712-01-P